INTERNATIONAL TRADE COMMISSION

[Investigation No. 337-TA-554]

In the Matter of Certain Axle Bearing Assemblies, Components Thereof, and Products Containing the Same; Notice of a Commission Determination Not To Review an Initial Determination Terminating the Investigation

AGENCY: U.S. International Trade Commission.

ACTION: Notice.

SUMMARY: Notice is hereby given that the U.S. International Trade Commission has determined not to review an initial determination (“ID”) of the presiding administrative law judge (“ALJ”) granting the motion of complainant and respondents to terminate the investigation on the basis of a settlement agreement.

FOR FURTHER INFORMATION CONTACT: Michael K. Haldenstein, Esq., Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on November 28, 2005, based on a complaint filed pursuant to section 337 of the Tariff Act of 1930, as amended, 19 U.S.C. 1337, by NTN Corporation of Osaka, Japan (“NTN”). 70 FR 71330 (November 28, 2005). The complaint, as supplemented, alleged violations of section 337 in the importation into the United States, the sale for importation, and the sale within the United States after importation of certain axle bearing assemblies, components thereof, and products containing the same by reason of infringement of claim 1 of U.S. Patent No. 5,620,263. The complaint further alleged that an industry in the United States exists as required by subsection (a)(2) of section 337. The complainant requested that the Commission issue a limited exclusion order and a cease and desist order. The Commission named ILJIN Bearing of Gyeongju City, Kyungbuk, Korea and ILJIN USA of Novi, Michigan (collectively, “ILJIN”) as respondents in the investigation. 70 FR at 71331. The ALJ set December 28, 2006 as the target date for completion of the investigation. Order No. 3 (December 5, 2005). On December 21, 2005, the ALJ issued an ID replacing ILJIN Bearing with ILJIN Global as a respondent in the investigation. The Commission determined not to review that ID. 71 FR 3540 (January 23, 2006).

On June 12, 2006, complainant and respondents filed a joint motion seeking to terminate the investigation on the basis of a settlement agreement. On June 13, 2006, the Commission investigative attorney filed a response in support of the motion to terminate.

On June 14, 2006, the ALJ issued the subject ID (Order No. 28) granting the parties' joint motion and terminating the investigation on the basis of a settlement agreement. No petitions for review of the ID were filed.

This action is taken under the authority of section 337 of the Tariff Act of 1930, as amended, 19 U.S.C. 1337, and Commission rule 210.42, 19 CFR 210.42.

By order of the Commission.
Issued: July 6, 2006.
Marilyn R. Abbott,
Secretary to the Commission.

[FR Doc. E6-10840 Filed 7-10-06; 8:45 am]

BILLING CODE 7020-02-P